NATIONAL AERONAUTICS AND SPACE ADMINISTRATION

[Notice: (10-136)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Lori Parker, Office of the Chief Information Officer, Mail Suite 2S65, National Aeronautics and Space Administration, Washington, DC 20546-0001.

FOR FURTHER INFORMATION CONTACT: Requests for additional information or copies of the information collection instrument(s) and instructions should be directed to Lori Parker, Office of the Chief Information Officer, NASA Headquarters, 300 E Street, SW., Mail Suite 2S65, Washington, DC 20546, (202) 358-1351, lori.parker@nasa.gov.

SUPPLEMENTARY INFORMATION:

I. Abstract

The purpose of this survey is to assimilate lunar regolith stimulant requirements as well as Apollo sample requests for the ETDP and Constellation projects and test facilities.

II. Method of Collection

Electronic.

III. Data

Title: Lunar Regolith & Stimulant Users' Survey for the In Situ Resource Utilization Web site.

OMB Number: 2700-XXXX.

Type of Review: Regular.

Affected Public: Individuals and household.

Estimated Number of Respondents: 31.

Estimated Time per Response: 10 minutes.

Estimated Total Annual Burden Hours: 2.

Estimated Total Annual Cost: $0.

IV. Requests for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Lori Parker,
NASA PRA Clearance Officer.

[FR Doc. 2010-26970 Filed 10-25-10; 8:45 am]

BILLING CODE 7510-13-P